DEPARTMENT OF AGRICULTURE

Forest Service

Deschutes Provincial Advisory Committee (DPAC)

AGENCY: Forest Service, Department of Agriculture.

ACTION: Notice of meeting.

SUMMARY: The Deschutes Provincial Advisory Committee will meet on May 27, 2009, starting at 8 a.m. at the Deschutes National Forest Supervisor's Office, 1001 SW., Emkay Drive, Bend, Oregon. There will be a 1-hour office meeting to brief members on the mapping effort for application of The Nature Conservancy/Fire Learning Network restoration principles. Then, members will go to the field to the Bend-Ft. Rock Ranger District to view areas where principles are being implemented. PAC members will help identify and prioritize areas for future restoration. The trip is scheduled to end at 4:30 p.m. All Deschutes Province Advisory Committee Meetings are open to the public and an open public forum is scheduled from 8:30 to 9 a.m.

FOR FURTHER INFORMATION CONTACT: Chris Mickle, Province Liaison, Crescent Ranger District, Highway 97, Crescent, Oregon 97733, Phone (541) 433-3216.

John Allen,
Deschutes National Forest Supervisor.

[FR Doc. E9-10135 Filed 5-7-09; 8:45 am]

BILLING CODE 3410-11-M